DEPARTMENT OF ENERGY

Federal Energy Regulatory Commission

[Project No.: 12478-002]

Gibson Dam Hydroelectric Project, LLC; Notice of Draft License Application and Preliminary Draft Environmental Assessment (PDEA) and Request for Preliminary Terms and Conditions

April 21, 2008.

Take notice that the following hydroelectric application has been filed with the Commission and is available for public inspection.

a. Type of Application: Major Project—Existing Dam.

b. Project No.: 12478-002.

c. Date Filed: April 14, 2008.

d. Applicant: Gibson Dam Hydroelectric Project, LLC.

e. Name of Project: Gibson Dam Hydroelectric Project.

f. Location: On the Sun River River, near the Towns of Fairfield and August, Teton and Lewis and Clark Counties, Montana. The project would occupy 132.4 acres of Forest Service lands within the Lewis and Clark National Forest, 15 acres of lands administered by the U.S. Bureau of Reclamation, and 69.9 acres of lands administered by the U.S. Bureau of Land Management.

g. Filed Pursuant to: Federal Power Act 16 U.S.C. 791(a)—825(r)

h. Applicant Contact: Steven C. Marmon, 3633 Alderwood Avenue, Bellingham, WA 98225, 360-738-9999.

i. FERC Contact: Matt Cutlip, 503-552-2762, matt.cutlip@ferc.gov

j. Status of Project: With this notice the Commission is soliciting (1) preliminary terms, conditions, and recommendations on the Preliminary Draft Environmental Assessment (DEA), and (2) comments on the Draft License Application.

k. Deadline for filing comments: July 11, 2008.

All comments on the Preliminary DEA and Draft License Application should be sent to the addresses noted above in Item (h), with one copy filed with FERC at the following address: Kimberly D. Bose, Secretary, Federal Energy Regulatory Commission, 888 First Street, NE., Washington, DC 20426. All comments must include the project name and number and bear the heading Preliminary Comments, Preliminary Recommendations, Preliminary Terms and Conditions, or Preliminary Prescriptions.

Comments and preliminary recommendations, terms and conditions, and prescriptions may be filed electronically via the Internet in lieu of paper. The Commission strongly encourages electronic filings. See 18 CFR 385.2001(a)(1)(iii) and the instructions on the Commission's Web site (http://www.ferc.gov) under the“e-Filing” link.

l. A copy of the draft application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

Gibson Dam Hydroelectric Company, LLC has electronically distributed a copy of the Preliminary DEA and Draft License Application to interested entities and parties. Copies of these documents are available for review at the following locations:

Greenfields Irrigation District, 105 W. Central Ave. Fairfield, MT 59436;

Lewis & Clark Library, Augusta Branch, 205 Main Street Augusta, MT 59410;

Choteau Public Library, 17 Main Avenue North, Choteau, MT 59422;

Great Falls Public Library, 301 2nd Avenue North, Great Falls, MT 59401;

Lewis & Clark Public Library, 120 South Last Chance Gulch, Helena, MT 59601; or by calling Steve Marmon at 360-738-9999, or by e-mailing smarmon@whitewatereng.com.

m. With this notice, we are initiating consultation with the Montana State Historic Preservation Officer (SHPO), as required by Section 106, National Historic Preservation Act, and the regulations of the Advisory Council on Historic Preservation, 36 CFR 800.4.

Kimberly D. Bose,
Secretary.

[FR Doc. E8-9302 Filed 4-28-08; 8:45 am]

BILLING CODE 6717-01-P